DEPARTMENT OF LABOR

Office of the Secretary

Submission for OMB Review: Comment Request

May 9, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: ERISA Summary Annual Report Requirement.

OMB Number: 1210-0040.

Frequency: Annually.

Type of Response: Third party disclosure.

Affected Public: Business or other for-profit and Not-for-profit institutions.

Number of Respondents: 749,000.

Number of Annual Responses: 228,686,000.

Estimated Time per Respondent: Approximately 45 minutes.

Total Burden Hours: 461,000.

Total Annualized Capital/Startup Costs: $0.

Total Annual Costs (operating/maintaining systems or purchasing services): $134,161,000.

Description: Section 104(b)(3) of the Employee Retirement Income Security Act of 1974 (ERISA) generally requires employee benefit plan administrators annually to furnish a Summary Annual Report (SAR) to each plan participant and to certain beneficiaries. The SAR must fairly summarize the information included in the plan's most recent annual report filed with the Department of Labor.

The Department of Labor's regulation under section ERISA section 104(b)(3), codified at 29 CFR 2520.104b-10, prescribes the timing and format of the SAR. Plan administrators must furnish a copy of the SAR to each participant and to each beneficiary who is receiving benefits under the plan (other than welfare plan beneficiaries) within 9 months after the close of the plan year.

The SAR provides plan a timely and accurate description of their plan's financial condition. The participants and beneficiaries who receive the SAR can determine, based on the information it contains, whether they have concerns with the operation of the plan and whether to exercise their rights under ERISA, for example, by contacting the Department when problems with the plan are identified. Concerned calls from participants and beneficiaries are a critical component of the Department's compliance assistance and enforcement efforts.

Ira L. Mills,
Departmental Clearance Officer.

[FR Doc. E6-7406 Filed 5-15-06; 8:45 am]

BILLING CODE 4510-29-P